TENNESSEE VALLEY AUTHORITY

Environmental Impact Statement—Proposed Watts Bar Reservoir Land Plan, Loudon, Meigs, Rhea, and Roane Counties, Tennessee

AGENCY: Tennessee Valley Authority (TVA).

ACTION: Extension of public comment period.

SUMMARY: This notice is provided in accordance with the Council on Environmental Quality's regulations (40 CFR parts 1500 to 1508), section 106 of the National Historic Preservation Act and its implementing regulations (36 CFR part 800), and TVA's procedures implementing the National Environmental Policy Act (NEPA). On February 25, 2004, TVA published a Notice of Intent to prepare an Environmental Impact Statement (EIS) for a proposed Reservoir Land Plan to manage Watts Bar Reservoir lands in Loudon, Meigs, Rhea, and Roane Counties, Tennessee (Federal Register, Volume 69, Number 37, Pages 8793-8795). To accommodate a future public meeting for this proposal, the comment period for the scoping phase of the environmental review is extended from April 15, 2004, to June 30, 2004. The date, time, location, and place of the public meeting will be announced in local newspapers, and on the TVA Web page at http://www.tva.gov, and may also be obtained by contacting the persons listed below.

ADDRESSES: Written comments should be sent to Jon M. Loney, Manager, NEPA Administration, Environmental Policy and Planning, Tennessee Valley Authority, 400 West Summit Hill Drive, Knoxville, Tennessee 37902-1499.

FOR FURTHER INFORMATION CONTACT: Richard L. Toennisson, NEPA Specialist, Environmental Policy and Planning, Tennessee Valley Authority, 400 West Summit Hill Drive, WT 8C, Knoxville, Tennessee 37902-1499; telephone: (865) 632-8517; or e-mail: rltoennisson@tva.gov.

Dated: April 16, 2004.
Kathryn J. Jackson,
Executive Vice President, River System Operations and Environment.

[FR Doc. 04-9114 Filed 4-21-04; 8:45 am]

BILLING CODE 8120-08-P